DEPARTMENT OF TRANSPORTATION

Surface Transportation Board

[STB Finance Docket No. 35315]

Standard Railroad Corporation—Acquisition and Operation Exemption—General Railway Corporation d/b/a Iowa Northwestern Railroad

Standard Railroad Corporation (SRC), a noncarrier, has filed a verified notice of exemption under 49 CFR 1150.31 to acquire from General Railway Corporation d/b/a Iowa Northwestern Railroad (IANW), and to operate a rail line approximately 0.4 miles long. The line extends between milepost 215.0, west of Superior, and milepost 215.4, west of Mackenzie Junction, in Dickinson County, IA.

The transaction is expected to be consummated on or after December 4, 2009 (30 days after the verified notice was filed).

SRC certifies that its projected annual revenues as a result of this transaction will not result in SRC becoming a Class II or Class I rail carrier. SRC further certifies that its projected annual revenues upon becoming a Class III carrier will not exceed $5 million.

Pursuant to the Consolidated Appropriations Act, 2008, Public Law 110-161, § 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

If SRC's verified notice contains false or misleading information, the exemption is void ab initio. Petitions to revoke the exemption under 49 U.S.C. 10502(d) may be filed at any time. The filing of a petition to revoke will not automatically stay the effectiveness of the exemption. Stay petitions must be filed no later than November 27, 2009 (at least 7 days before the exemption becomes effective).

An original and 10 copies of all pleadings, referring to STB Finance Docket No. 35315, must be filed with the Surface Transportation Board, 395 E Street, SW., Washington, DC 20423-0001. In addition, one copy of each pleading must be served on Fritz R. Kahn, Fritz R. Kahn P.C., 1920 N Street, NW. (8th floor), Washington, DC 20036.

Board decisions and notices are available on our Web site at http://www.stb.dot.gov.

Decided: November 17, 2009.
By the Board, Rachel D. Campbell, Director, Office of Proceedings.
Kulunie L. Cannon,
Clearance Clerk.

[FR Doc. E9-27886 Filed 11-19-09; 8:45 am]

BILLING CODE 4915-01-P